DEPARTMENT OF LABOR

Employment and Training Administration

Comment Request for Information Collection for the Registered Apprenticeship-College Consortium, New Collection

AGENCY: Employment and Training Administration (ETA), Labor.

ACTION: Notice.

SUMMARY: The Department of Labor (Department), as part of its continuing effort to reduce paperwork and respondent burden, conducts a pre-clearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments on the current data collection for the Registered Apprenticeship-College Consortium (RACC). The RACC exists to facilitate applying the Registered Apprenticeship completion certificate towards college credit. RACC post-secondary members agree to accept apprentice graduates from member Registered Apprenticeship sponsors who have the approximate amount of credit toward college that has been designated by a third party evaluator. The Department has modeled the RACC after the Servicemembers Opportunities Colleges Consortium supported by the Department of Defense.

The RACC data collection includes three application forms to join the consortium, differentiated by membership type:

(1) The application for Registered Apprenticeship sponsors requests contact

information for the national, regional or single guideline standards or program; all participating training centers, if applicable; and the value of the apprenticeship program toward college credit, recommended by a third party evaluator;

(2) the application for two- and four-year post-secondary institutions requests contact, degree and credit transfer information; and

(3) the application for national, regional or State organizations that represent sponsors and/or two- and four-year post-secondary colleges and will facilitate membership in the consortium requests contact information and the nature of the relationship with sponsors or colleges.

Subsection II of the Supplementary Information paragraphs below provides greater detail on the types of comments that would be most helpful.

DATES: Written comments must be submitted to the office listed in the addresses section below on or before March 12, 2013.

ADDRESSES: Submit written comments to Laura Ginsburg, Office of Apprenticeship, Room N-5306, Employment and Training Administration, U.S. Department of Labor, 200 Constitution Avenue NW., Washington, DC 20210. Telephone number: 202-693-2796. Individuals with hearing or speech impairments may access the telephone number above via TTY by calling the toll-free Federal Information Relay Service at 1-877-889-5627 (TTY/TDD). Fax: 202-693-3799. Email: OA.Administrator@dol.gov. A copy of the proposed information collection request (ICR) can be obtained by contacting the office listed above.

SUPPLEMENTARY INFORMATION:

I. Background

The Secretary of Labor's Advisory Committee on Apprenticeship (ACA), which includes members from the employer, labor, and public sectors, has identified the need to apply the Registered Apprenticeship completion certificate for college credit as an important opportunity for apprentices to continue on a career pathway, enhance skill acquisition, and earn an Associates or Bachelor's degree. Increased articulation agreements between Registered Apprenticeship program sponsors and colleges will create a new pipeline of degree-seekers and enhance the competitiveness of American industry by enlarging the pool of highly-trained workers that possess in-demand skills and competencies.

Registered Apprenticeship pairs paid on-the-job learning with related technical/theoretical classes in a career field. The earn-while-you-learn model offers job seekers immediate employment opportunities that pay good wages and offer career growth, highly-esteemed and useful life/skill sets, portable credentials that are nationally (and often globally) recognized, and the opportunity for participants to apply their apprenticeship training to two- and four-year college programs. DOL's Assistant Secretary for Employment and Training, Jane Oates, and the Department of Education's (DOE) Assistant Secretary for Vocational and Adult Education (OVAE), Brenda Dann-Messier, is undertaking a joint effort, at the recommendation of the ACA, to increase articulation agreements between post-secondary education institutions and Registered Apprenticeship program sponsors. An ad-hoc workgroup of the ACA, composed of ACA members, community college leaders, Registered Apprenticeship sponsors, American Association of Community Colleges (AACC) representatives, and leadership from DOL's Office of Apprenticeship (OA) and DOE/OVAE has developed the framework for the articulation consortium, including goals, principles and membership criteria which was adopted unanimously by the full ACA at its May 9-10, 2012 meeting. The SOC is a consortium of colleges supported by the Department of Defense that provides college articulation for soldiers and veterans who accumulate credits at a number of colleges.

DOL has shared this framework for feedback and refinement with a variety of stakeholder groups, including a wide range of community college partners as well as sponsors of Registered Apprenticeship programs who overwhelmingly support the establishment of the consortium. The data collection is the application form to seek membership in the consortium, which DOL also has based on the SOC model.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submissions of responses.

III. Current Actions

Type of Review: New collection.

Title: Registered Apprenticeship-College Consortium Membership Applications.

OMB Number: 1205-0NEW.

Affected Public: Registered Apprenticeship sponsors and graduates of the programs (journey workers), two- and four-year post-secondary institutions, national, regional and state organizations that represent sponsors and/or post-secondary institutions.

Form(s): Separate application forms for each group: (1) 2- and 4-year post-secondary institutions, (2) sponsors, (3) national, regional and state organizations that represent sponsors and 2- and 4-year institutions.

Total Annual Respondents

First Year = 602

• 2- and 4-year post-secondary institutions = 500

• Program Sponsors = 100

• National, Regional, or State Associations or Other Organizations = 2

Annual Respondents (after the first year) = 77

• 2- and 4-year post-secondary institutions = 50

• Program Sponsors = 25

• National, Regional, or State Associations or Other Organizations = 2

Annual Frequency: once per respondent, with annual updates as needed when contact information changes.

Total Annual Responses:

First Year = 1,237 articulation agreements

Number of institutions | Average number of articulation agreements per institution | Total number of articulation agreements
380 | 1 | 380
48 | 3 | 144
30 | 8 | 240
17 | 15 | 255
Total number of articulation agreements estimated to be entered by two- and four-year colleges during the first year | 1,019

Number of sponsors | Average number of articulation agreements per sponsor | Total number of articulation agreements
80 | 1 | 80
10 | 3 | 30
6 | 8 | 48
4 | 15 | 60
Total number of articulation agreements estimated to be entered by program sponsors during the first year | 218

Annual Responses (after the first year) = 166 articulation agreements

Number of institutions | Average number of articulation agreements per institution | Total number of articulation agreements
40 | 1 | 40
5 | 3 | 15
3 | 8 | 24
2 | 15 | 30
Total number of articulation agreements estimated to be entered by two- and four-year colleges on an annual basis | 109

Number of sponsors | Average number of articulation agreements per sponsor | Total number of articulation agreements
20 | 1 | 20
2 | 3 | 6
2 | 8 | 16
1 | 15 | 15
Total number of articulation agreements estimated to be entered by program sponsors on an annual basis | 57

Average Time per Response: 10 minutes per articulation agreement.

Estimated Total Annual Burden Hours

First Year = 235 hours

Application | Burden hours
Two- and Four-Year Post-Secondary Institutions | 179
Registered Apprenticeship Sponsor | 53.5
Associations and Other Organizations | 2

Annual Burden Hours (after the first year) = 30 hours

Application | Burden hours
Two- and Four-Year Post-Secondary Institutions | 18
Registered Apprenticeship Sponsor | 9.5
Associations and Other Organizations | 2

Total Annual Burden Cost for Respondents: $14,232.

Application | Respondent cost
Two- and Four-Year Post-Secondary Institutions | $11,280
Registered Apprenticeship Sponsor | $2,760
Associations and Other Organizations | $192

Comments submitted in response to this comment request will be summarized and/or included in the request for Office of Management and Budget approval of the ICR; they will also become a matter of public record.

Dated: Signed in Washington, DC, on this 2nd day of January, 2013.
Jane Oates,
Assistant Secretary for Employment and Training, Labor.

[FR Doc. 2013-00419 Filed 1-10-13; 8:45 am]

BILLING CODE 4510-FR-P